OFFICE OF THE UNITED STATES TRADE REPRESENTATIVE

Request for Comments Concerning Compliance With Telecommunications Trade Agreements

AGENCY: Office of the United States Trade Representative.

ACTION: Notice of request for public comment and reply comment.

SUMMARY: Pursuant to section 1377 of the Omnibus Trade and Competitiveness Act of 1988 (19 U.S.C. 3106) (`Section 1377'), the Office of the United States Trade Representative (“USTR”) is reviewing and requests comments on: The operation, effectiveness, and implementation of and compliance with the following agreements regarding telecommunications products and services of the United States: the World Trade Organization (“WTO”) General Agreement on Trade in Services; the North American Free Trade Agreement (“NAFTA”); U.S. free trade agreements (“FTAs”) with Australia, Bahrain, Chile, Morocco, Oman, Peru, and Singapore; and the Dominican Republic-Central America-United States Free Trade Agreement (“CAFTA-DR”). The USTR will conclude the review by March 31, 2010.

DATES: Comments are due by noon on December 11, 2009 and reply comments by noon on January 15, 2010.

ADDRESSES: Gloria Blue, Executive Secretary, Trade Policy Staff Committee, ATTN: Section 1377 Comments, Office of the United States Trade Representative, 1724 F Street, NW., Washington, DC 20508.

FOR FURTHER INFORMATION CONTACT: Catherine Hinckley, Office of Services and Investment (202) 395-9539; or Amy Karpel, Office of the General Counsel (202) 395-3150.

SUPPLEMENTARY INFORMATION: Section 1377 requires the USTR to review annually the operation and effectiveness of all U.S. trade agreements regarding telecommunications products and services that are in force with respect to the United States. The purpose of the review is to determine whether any act, policy, or practice of a country that has entered into an FTA or other telecommunications trade agreement with the United States is inconsistent with the terms of such agreement or otherwise denies U.S. firms, within the context of the terms of such agreements, mutually advantageous market opportunities for telecommunications products and services. For the current review, the USTR seeks comments on:

(1) Whether any WTO member is acting in a manner that is inconsistent with its obligations under WTO agreements affecting market opportunities for telecommunications products or services, e.g., the WTO General Agreement on Trade in Services (“GATS”), including the Basic Telecommunications Agreement, the Annex on Telecommunications, and any scheduled commitments including the Reference Paper on Pro-Competitive Regulatory Principles;

(2) Whether Canada or Mexico has failed to comply with its telecommunications obligations under the NAFTA;

(3) Whether Costa Rica, the Dominican Republic, El Salvador, Guatemala, Honduras or Nicaragua has failed to comply with its telecommunications obligations under the CAFTA-DR;

(4) Whether Australia, Bahrain, Chile, Morocco, Oman, Peru, or Singapore has failed to comply with its telecommunications obligations under the respective FTA between the United States and that country (see http://www.ustr.gov/trade-agreements/free-trade-agreements for U.S. FTAs);

(5) Whether any country has failed to comply with its obligations under telecommunications trade agreements with the United States other than FTAs, e.g., Mutual Recognition Agreements (MRAs) for Conformity Assessment of Telecommunications Equipment (see http://ts.nist.gov/standards/conformity/mra/mra.cfm) for a collection of trade agreements related, inter alia, to telecommunications);

(6) Whether any act, policy, or practice of a country cited in a previous section 1377 review remains unresolved (see http://www.ustr.gov/trade-topics/services-investment/telecom-e-commerce/section-1377-review for the most recent reviews); and

(7) Whether any measures or practices impede access to telecommunications markets or otherwise deny telecommunications products and services market opportunities with respect to any country that is a WTO member or for which an FTA or telecommunications trade agreement has entered into force between such country and the United States. Measures or practices of interest include, for example, prohibitions on voice over Internet protocol (VOIP) services; requirements for access to or use of networks that limit the products or services U.S. suppliers can offer in specific markets; the imposition of excessively high licensing fees; discriminatory procedures for allocation and use of spectrum or other scarce resources; and the imposition of unnecessary or discriminatory technical regulations or standards in the telecommunications product or services sectors.

Public Comment and Reply Comment: Requirements for Submission

Comments in response to this notice must be written in English, must identify (on the first page of the comments) the telecommunications trade agreement(s) discussed therein, and must be submitted electronically by 5 p.m. on December 11, 2009. Reply comments must also be in English and must be submitted by 5 p.m. on January 15, 2010. Comments and reply comments, with the exception of business confidential comments, must be submitted using http://www.regulations.gov, docket number USTR-2009-0038. Instructions for submitted business confidential versions are provided below. In the unusual case where submitters are unable to make submissions through Regulations.gov, the submitter must contact Gloria Blue at (202) 395-3475 to make alternate arrangements.

To submit comments using http://www.regulations.gov, enter docket number USTR-2009-0038 on the home page and click “Search”. The site will provide a search-results page listing all documents associated with this docket. Locate the reference to this notice by selecting “Notices” under “Document Type” on the search-results page, and click on the link entitled “Send a Comment.” Follow the instructions given on the screen to submit a comment. The http://www.regulations.gov website offers the option of providing comments by filling in a “Type Comment” field or by attaching a document. While both options are acceptable, USTR prefers submissions in the form of an attachment.

Business Confidential Submissions

Persons wishing to submit business confidential information must submit that information by fax to (202) 395-3891. Business confidential submissions will not be accepted at http://regulations.gov. The submitter must include in the comments a written explanation of why the information should be protected in accordance with 15 CFR 2007.7(b). In addition, a non-confidential version of the comments must be submitted to http://www.regulations.gov, docket number USTR-2009-0038. The submission must indicate, with asterisks, where confidential information was redacted or deleted. The top and bottom of each page of the non-confidential version must be marked either “PUBLIC VERSION” or “NON-CONFIDENTIAL”.

Business confidential comments that are submitted without the required markings or that do not have a properly marked non-confidential version submitted to regulations.gov as set forth above may not be accepted or may be treated as public documents.

Submitters should provide updated information on all issues they cite in their filings; USTR will not review submissions that are copies of earlier submissions.

Carmen Suro-Bredie,
Chair, Trade Policy Staff Committee.

[FR Doc. E9-27561 Filed 11-16-09; 8:45 am]

BILLING CODE 3190-W0-P